NUCLEAR REGULATORY COMMISSION

[Docket No. 40-8905]

Notice of Availability of Environmental Assessment and Finding of No Significant Impact for License Amendment for Rio Algom Mining LLC, Ambrosia Lake, NM

AGENCY: Nuclear Regulatory Commission.

ACTION: Notice of availability.

FOR FURTHER INFORMATION CONTACT: Michael G. Raddatz, Project Manager, Fuel Cycle Facilities Branch, Division of Fuel Cycle Safety and Safeguards, Office of Nuclear Material Safety and Safeguards, U.S. Nuclear Regulatory Commission, Washington, DC 20555. Telephone: (301) 415-6334; fax number: (301) 415-5955; e-mail: mgr@nrc.gov.

SUPPLEMENTARY INFORMATION:

I. Introduction

The Nuclear Regulatory Commission (NRC) is issuing a license amendment to Source Materials License No. SUA-1473 issued to Rio Algom Mining LLC (the licensee), to authorize Alternate Concentration Limits (ACLs) at its uranium mill tailings site in Ambrosia Lake, New Mexico. NRC has prepared an Environmental Assessment (EA) in support of this amendment in accordance with the requirements of 10 CFR part 51. Based on the EA, the NRC has concluded that a Finding of No Significant Impact (FONSI) is appropriate. The amendment will be issued following the publication of this Notice.

II. EA Summary

The purpose of the proposed amendment is to authorize ACLs at the licensee's Ambrosia Lake facility. Specifically, ACLs have been approved for hazardous constituents gross alpha, lead-210, molybdenum, nickel, radium-226 & -228, selenium, thorium-230, and natural uranium and nonhazardous constituents chloride, nitrate, sulfate, and Total Dissolved Solids (TDS). On February 15, 2000, May 30, 2001, and July 7, 2005, Rio Algom Mining LLC requested that NRC approve the proposed amendment. The licensee's request for the proposed change was previously noticed in the Federal Register on June 29, 2000, (65 FR 40144) with a notice of an opportunity to request a hearing and an opportunity to provide comments on the amendment and its environmental impacts.

The staff has prepared the EA in support of the proposed license amendment. The staff considered impacts to ground water, surface water, socioeconomic conditions, threatened and endangered species, transportation, land use, public and occupational health, and historic and cultural resources. The EA supports a FONSI because this licensing action does not involve any land disturbance; therefore, impacts to socioeconomic conditions, threatened and endangered species, transportation, land use, public and occupational health, and historic and cultural resources would not occur. In addition, reviews of ground water flow, fate and transport, and exposure models indicate that the ACLs are protective of human health and the environment at the point of exposure because hydrogeologic conditions, natural attenuation processes, and aquifer class of use near the facility would preclude human exposures and environmental impacts.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
Quivira Mining Company, Corrective Action Program and Alternate Concentration Limits Petition for Uppermost Bedrock Units, Ambrosia Lake Uranium Mill Facility Near Grants, New Mexico, Grants, New Mexico | ML003687843 | 2/15/2000
Rio Algom Mining, LLC, Ground Water Modeling and Feasibility Analysis for the Application of Alternate Concentration Limits | ML003737960 | 7/21/2000
Quivira Mining Company, Application for Alternate Concentration Limits in the Alluvial Materials at Quivira Mill Facility, Ambrosia Lake, New Mexico, Grants, New Mexico | ML011690068 | 5/20/2001
U.S. Nuclear Regulatory Commission, Rio Algom Mining LLC, Ground Water Alternate Concentration Limits, Request for Additional Information | ML030170464 | 1/16/2003
Rio Algom Mining LLC, Response to Request for Additional Information for the Rio Algom Mining LLC's January 16, 2003, Application for Alternate Concentration Limits | ML031080523 | 4/11/2003
Rio Algom Mining LLC, 2004a, Response to Agreements Reached During August 12, 2003, Meeting With the Nuclear Regulatory Commission, Oklahoma City, Oklahoma | ML040430419 | 2/9/2004
U.S. Fish and Wildlife Service, letter to J. Caverly | ML042780480 | 9/20/2004
New Mexico Environment Department, letter to Gary S. Janosko transmitting comments on the draft environmental assessment | ML050800062 | 2/21/2005
Rio Algom Mining LLC, Response to U.S. Nuclear Regulatory Commission's February 10, 2005, Request for Additional Information To Incorporate Nonhazardous Constituents as Part of the Site Alternate Concentration Limit Petition | ML051990088 | 7/7/2005
U.S. Nuclear Regulatory Commission, Rio Algom Mining LLC, Nonhazardous Constituent Alternate Concentration Limits, Request for Additional Information | ML052770173 | 10/31/2005
Rio Algom Mining LLC, 2005b. Response to October 31, 2005, Request for Additional Information | ML053480214 | 12/7/2005
Environmental Assessment for Amendment of Source Materials License SUA-1473 for Ground Water Alternate Concentration Limits, Rio Algom Mining, LLC, Ambrosia Lake, New Mexico | ML060130097 | 1/20/2006

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1 F21, One White Flint North, 11555 Rockville Pike, Rockville, MD 20852. The PDR reproduction contractor will copy documents for a fee.

Dated at Rockville, Maryland this 23rd day of January, 2006.
For the Nuclear Regulatory Commission.
Michael G. Raddatz,
Project Manager, Fuel Cycle Facilities Branch, Division of Fuel Cycle Safety and Safeguards, Office of Nuclear Material Safety and Safeguards.

[FR Doc. E6-1036 Filed 1-26-06; 8:45 am]

BILLING CODE 7590-01-P